DEPARTMENT OF HOMELAND SECURITY

Transportation Security Administration

[Docket No. TSA-2001-11120 and TSA-2002-11334]

Notice of Resumption of the September 11th Security Fee and the Aviation Security Infrastructure Fee Following Temporary Suspension

AGENCY: Transportation Security Administration (TSA), DHS.

ACTION: Notice.

SUMMARY: This notice reminds air carriers, foreign air carriers, and the general public of the resumption of the imposition of the Passenger Civil Aviation Security Service Fee, also known as the September 11th Security Fee, and the Aviation Security Infrastructure Fee. Pursuant to a statutory requirement, TSA temporarily suspended these fees from June 1, 2003, through September 30, 2003. The suspension of these fees ends automatically at the end of the suspension period, September 30, 2003.

DATES: Imposition of the September 11th Security Fee and the Aviation Security Infrastructure Fee resumes on October 1, 2003.

FOR FURTHER INFORMATION CONTACT: For technical matters contact: Randall Fiertz, Office of Revenue, Transportation Security Administration Headquarters, West Building, Floor 5, TSA-14, 601 South 12th Street, Arlington, VA 22202; e-mail: TSA-Fees@dhs.gov, telephone: 571-227-2323. For legal issues and other matters contact: Susan Truax, Office of the Chief Counsel, Transportation Security Administration Headquarters, West Building, Floor 8, TSA-2, 601 South 12th Street, Arlington, VA 22202; e-mail: Susan.Truax@dhs.gov, telephone: 571-227-1996.

SUPPLEMENTARY INFORMATION:

Background

Under 49 U.S.C. 44940 and the Transportation Security Regulations at 49 CFR parts 1510 and 1511, respectively, air carriers and foreign air carriers are required to pay to TSA fees known as the September 11th Security Fee and the Aviation Security Infrastructure Fee (ASIF).

The September 11th Security Fee is a fee in the amount of $2.50 per enplanement imposed by TSA on passengers of domestic and foreign air carriers in air transportation, foreign air transportation, and intrastate air transportation originating at airports in the United States. This fee is limited to $2.50 per enplanement for up to two enplanements (or up to $5) per one-way trip or four enplanements (or up to $10) per round trip. 49 CFR 1510.5(a). Section 118 of the Aviation and Transportation Security Act (ATSA) (Pub. L. 107-71; November 19, 2001) authorized TSA to impose the September 11th Security Fee to help pay TSA's costs of providing civil aviation security services. Under 49 CFR 1510.9(a) and (b), direct air carriers and foreign air carriers must collect from each passenger a September 11th Security Fee on air transportation sold on or after February 1, 2002.

The ASIF is a fee imposed by TSA on air carriers and foreign air carriers engaged in air transportation, foreign air transportation, and intrastate air transportation, based on each carrier's security costs incurred in the year 2000. Section 118 of the ATSA authorized TSA to impose the ASIF, to the extent that the September 11th Security Fee was insufficient to pay TSA's costs of providing civil aviation security services. Under 49 CFR 1511.5 and 1511.7(b), each air carrier and foreign air carrier engaged in air transportation must pay to TSA the ASIF incurred for each month by the last calendar day of the following month. For months up to and including September of 2004, the payment is 8.333 percent of the total amount of the air carrier's costs of screening passengers and property transported by passenger aircraft in the United States during calendar year 2000.

On April 16, 2003, the President signed into law the Emergency Wartime Supplemental Appropriations Act, 2003, (Pub. L. 108-11) (Appropriations Act), which among other things, prohibits the Under Secretary for Border and Transportation Security (BTS) of the Department of Homeland Security from imposing the September 11th Security Fee and the ASIF during the period beginning June 1, 2003, and ending September 30, 2003 (suspension period). TSA, which is an agency within the Department of Homeland Security and operating under the direction of the Under Secretary of BTS, is the agency charged with imposing these fees by regulation. Therefore, in order to implement the Appropriations Act, TSA published a temporary final rule on May 21, 2003 (68 FR 27747). The rule suspended these fees for the suspension period through temporary amendments to 49 CFR parts 1510 and 1511.

The temporary final rule expires automatically at the end of the suspension period. TSA is publishing this notice to remind carriers and the general public of the expiration of the temporary amendments to 49 CFR parts 1510 and 1511 and the resumption of both fees as of 12 a.m., Eastern Daylight Time, October 1, 2003. On that date, September 11th Security Fees will be imposed on air transportation sold after the end of the suspension period, in accordance with the temporary final rule, 49 CFR parts 1510, and prior guidance issued by TSA, including the interpretive letter of January 25, 2002.¹ This resumption of the September 11th Security Fee must be consistent with definitions and guidance provided in the temporary rule and 49 CFR 1510.9(b). Further, the ASIF will be imposed in accordance with 49 CFR part 1511 on affected carriers, with payments for October 2003 due to TSA no later than November 30, 2003.

¹ An electronic copy of the letter may be obtained online by viewing Item 11 in TSA's regulatory Docket no. 11120 at http://dms.dot.gov/search.

Issued in Arlington, VA, on September 24, 2003.
James M. Loy,
Administrator.

[FR Doc. 03-24617 Filed 9-24-03; 3:38 pm]

BILLING CODE 4910-62-P